NUCLEAR REGULATORY COMMISSION

[NRC-2015-0167]

Anticipated Transients That Could Develop Into More Serious Events

AGENCY: Nuclear Regulatory Commission.

ACTION: Draft revision to regulatory issue summary; request for comment.

SUMMARY: The U.S. Nuclear Regulatory Commission (NRC) is seeking public comment on a draft revision 1 to a regulatory issue summary (RIS). Revision 1 to the RIS would inform addressees of concerns identified during recent license amendment reviews. This draft revision to a RIS is addressed to applicants for, and holders of, nuclear power reactor licenses, construction permits, standard design approvals, and manufacturing licenses, and applicants for standard design certifications. This draft revision to a RIS would inform addressees of concerns identified during recent reviews of anticipated operational occurrences safety analyses of updated final safety analysis reports. Revision 1 to RIS 2005-29 will supersede in its entirety RIS 2005-29.

DATES: Submit comments by September 15, 2015. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0167. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Alexandra Popova, Office of Nuclear Reactor Regulation, telephone: 301-415-2876, email: Alexandra.Popova@nrc.gov.

SUPPLEMENTARY INFORMATION:

I. Obtaining Information and Submitting Comments

A. Obtaining Information

Please refer to Docket ID NRC-2015-0167 when contacting the NRC about the availability of information for this action. You may obtain publicly-available information related to this action by any of the following methods:

• Federal rulemaking Web site: Go to http://www.regulations.gov and search for Docket ID NRC-2015-0167.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft revision to RIS 2005-29 is available in ADAMS under Accession No. ML15014A469.

• NRC's PDR: You may examine and purchase copies of public documents at the NRC's PDR, Room O1-F21, One White Flint North, 11555 Rockville Pike, Rockville, Maryland 20852.

B. Submitting Comments

Please include Docket ID NRC-2015-0167 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC is revising RIS 2005-29 (ML15014A469) to inform addressees of concerns identified during recent license amendment reviews. Specifically, licensing bases, as documented in final safety analysis reports (FSARs), updated FSARs (UFSARs), or design control documents (DCDs), failed to demonstrate that anticipated operational occurrences (AOOs, Condition II events) would not progress to more serious events (Condition III or IV events). The NRC determined that, as a result of these problems, these licensees were not in compliance with Part 50, Appendix A of Title 10 of the Code of Federal Regulations (10 CFR), “General Design Criteria for Nuclear Power Plants,” specifically, general design criteria (GDC) 15, “Reactor Coolant System Design,” GDC 21, “Protection System Reliability and Testability,” and GDC 29, “Protection Against Anticipated Operational Occurrences,” as well as 10 CFR 50.34(b), “Final Safety Analysis Report.” Revision 1 to RIS 2005-29 supersedes in its entirety RIS 2005-29. The revised RIS would be designated as RIS 2005-29, Revision 1. The original version of RIS 2005-29 was issued on December 14, 2005, and is available in ADAMS for viewing (ML051890212).

The NRC issues RISs to communicate with stakeholders on a broad range of matters. This may include providing guidance to applicants and licensees on the scope and detail of information that should be provided in licensing applications to facilitate NRC review.

Proposed Action

The NRC requests public comments on the NRC-proposed revisions to the current RIS. The NRC staff will make a final determination regarding issuance of a revised RIS after it considers any public comments received in response to this request.

Dated at Rockville, Maryland, this 13th day of July 2015.
For the Nuclear Regulatory Commission.
Tanya M. Mensah,
Acting Chief, Generic Communications Branch, Division of Policy and Rulemaking, Office of Nuclear Reactor Regulation.

[FR Doc. 2015-17510 Filed 7-16-15; 8:45 am]

BILLING CODE 7590-01-P